DEPARTMENT OF THE TREASURY

Submission for OMB Review; Comment Request

November 22, 2010.

The Department of the Treasury will submit the following public information collection requirement to OMB for review and clearance under the Paperwork Reduction Act of 1995, Public Law 104-13 on or after the date of publication of this notice. A copy of the submission may be obtained by calling the Treasury Bureau Clearance Officer listed. Comments regarding this information collection should be addressed to the OMB reviewer listed and to the Treasury PRA Clearance Officer, Department of the Treasury, 1750 Pennsylvania Avenue, NW., Suite 11010, Washington, DC 20220.

DATES: Written comments should be received on or before December 29, 2010 to be assured of consideration.

Bureau of the Public Debt (BPD)

OMB Number: 1535-0122.

Type of Review: Extension without change of a currently approved collection.

Title: Voluntary Customer Satisfaction Survey To Implement Executive Order 12862.

Abstract: Voluntary surveys to determine customer satisfaction with BPD products and services.

Respondents: Individuals and Households.

Estimated Total Burden Hours: 876 hours.

Bureau Clearance Officer: Bruce Sharp, Bureau of the Public Debt, 200 Third Street, Parkersburg, West Virginia 26106; (304) 480-8112.

OMB Reviewer: Shagufta Ahmed, Office of Management and Budget, New Executive Office Building, Room 10235, Washington, DC 20503; (202) 395-7873.

Robert Dahl,
Treasury PRA Clearance Officer.

[FR Doc. 2010-29926 Filed 11-26-10; 8:45 am]

BILLING CODE 4810-39-P